DEPARTMENT OF HEALTH AND HUMAN SERVICES

Center for Medicare and Medicaid Services

[Document Identifier: CMS-10076]

Emergency Clearance: Public Information Collection Requirements Submitted to the Office of Management and Budget (OMB)

AGENCY: Center for Medicare and Medicaid Services, HHS.

In compliance with the requirement of section 3506(c)(2)(A) of the Paperwork Reduction Act of 1995, the Center for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with an initiative of the Administration. We cannot reasonably comply with the normal clearance procedures because of an unanticipated event and possible public harm.

The Administration identified that Medicare program authority to assist beneficiaries could be linked to emerging opportunities in the private sector to make prescription drugs more affordable to consumers. Through educating Medicare beneficiaries about these opportunities and assisting them in identifying prescription discount card programs that are reputable and offer quality customer service, these beneficiaries can reduce their out-of-pocket expenditures for drugs substantially. Further, we believe under this initiative that beneficiaries will be more compliant with prescription drug treatment plans and consequently will make more optimal use of their Medicare-covered services. This initiative is consistent not only with the Secretary's duty under the Medicare program to educate beneficiaries, but is also consistent with the Secretary's duties under the Social Security Act to effectuate the purposes of the Medicare program.

This collection of information is structured on the requirements already articulated in the final rule entitled, “Medicare-Endorsed Prescription Drug Card Assistance Initiative”, published on September 4, 2002 (67 FR 56618).

CMS is requesting OMB review and approval of this collection by January 7, 2003, with a 180-day approval period. Written comments and recommendations will be accepted from the public if received by the individuals designated below by December 13, 2002. During this 180-day period, we will publish a separate Federal Register notice announcing the initiation of an extensive 60-day agency review and public comment period on these requirements. We will submit the requirements for OMB review and an extension of this emergency approval.

Type of Information Collection Request: New collection.

Title of Information Collection: Medicare-Endorsed Prescription Drug Card Assistance Initiative.

Form No.: CMS-10076 (OMB# 0938-NEW).

Use: CMS is soliciting applications from prescription discount card programs so that it may endorse qualifying programs for Medicare beneficiaries. CMS, on its website, and the endorsed programs, on request, will make information available for Medicare beneficiaries to use to compare the programs for possible enrollment in one of them.

Frequency: Annually, bi-annually, monthly.

Affected Public: Business or other for-profit, Not-for-profit institutions.

Number of Respondents: 15.

Total Annual Responses: 15.

Total Annual Hours: 5,444.

Background

The Centers for Medicare and Medicaid Services (CMS) is seeking applications from qualified entities interested in entering into a Medicare endorsement agreement for their prescription discount card program. The general purpose of this Medicare endorsement agreement will be to publicize information that allows Medicare beneficiaries to compare prescription drug discount cards, assist Medicare beneficiaries in understanding and accessing private market methods for securing discounts on the purchase of prescription drugs, and raise beneficiary awareness of prescription drug discount card programs available in the commercial market. Approximately 9 million Medicare beneficiaries are without drug coverage at any point in a year. We expect this initiative will help beneficiaries, particularly those who lack prescription drug coverage, understand how drug discount card programs can lower beneficiary out-of-pocket prescription drug expenses. Further, we believe under this initiative that beneficiaries will be more compliant with prescription drug treatment plans and consequently will make more optimal use of their Medicare-covered services. This effort is not, in any way, an offer of a Medicare-reimbursed drug benefit.

Readers can find the application for this initiative on the Web site listed below. It is the final version subject to OMB approval.

We have submitted a copy of this notice to OMB for its review of these information collections. A notice will be published in the Federal Register when approval is obtained.

To obtain copies of the supporting statement and any related forms for the proposed paperwork collections referenced above, access CMS' Web site address at http://cms.hhs.gov/regulations/pra/default.asp, or e-mail your request, including your address, phone number, OMB number, and CMS document identifier, to Paperwork@hcfa.gov, or call the Reports Clearance Office on (410) 786-1326.

Interested persons are invited to send comments regarding the burden or any other aspect of these collections of information requirements. However, as noted above, comments on these information collection and record keeping requirements must be mailed and/or faxed to the designees referenced below, by December 13, 2002:

OMB Human Resources and Housing Branch, Attention: Brenda Aguilar, New Executive Office Building, Room 10235, Washington, DC 20503, Fax: 202-395-6974,

And,

CMS, Office of Strategic Operations and Regulatory Affairs, Division of Regulations Development and Issuances, Attention: Julie Brown, Room C5-16-03, 7500 Security Boulevard, Baltimore, Maryland 21244-1850, Fax: 410-786-3064.

Dated: November 20, 2002.
John P. Burke, III,
Paperwork Reduction Act Team Leader, CMS Reports Clearance Officer, Office of Strategic Operations and Regulatory Affairs, Division of Regulations Development and Issuances.

[FR Doc. 02-30367 Filed 11-27-02; 8:45 am]

BILLING CODE 4120-03-P